DEPARTMENT OF COMMERCE

International Trade Administration

North American Free-Trade Agreement, Article 1904; NAFTA Panel Reviews; Request for Panel Review

AGENCY: NAFTA Secretariat, United States Section, International Trade Administration, Department of Commerce.

ACTION: Notice of first request for panel review.

SUMMARY: On January 11, 2006, Tembec Inc., Aspen Planers Ltd., Downie Timber Ltd., Federated Co-operatives Ltd., Gorman Bros. Lumber Ltd., Haida Forest Products Ltd., Kenora Forest Products Ltd., Lecours Lumber Co. Ltd., Liskeard Lumber Co. Ltd., Midway Lumber Mills Ltd., Mill & Timber Products Ltd., Nickel Lake Lumber, North Enderby Distribution Ltd., North Enderby Timber Ltd., Olav Haavaldsrud Timber Co. Ltd., Ontario Forest Industries Association and its members, Ontario Lumber Manufacturers Association and its members, R. Fryer Forest Products Ltd., Selkirk Specialty Wood Ltd., Tall Tree Lumber Co., and Tyee Timber Products Ltd. (collectively, “the Plaintiffs”) filed a First Request for Panel Review with the United States Section of the NAFTA Secretariat pursuant to Article 1904 of the North American Free Trade Agreement. Seventeen additional Requests for Panel Review were filed on January 11, 2006 on behalf of Dunkley Lumber Ltd.; Abitibi-Consolidated Inc. (“ACI”), Abitibi-Consolidated Company of Canada (“ACCC”), Produits Forestiers Petits Paris Inc. (“PFPP”), Produits Forestiers La Tuque Inc. (“PFLT”), Produits Forestiers Saguenay Inc. (“PFS”), Societe en Commandite Opitciwan (“Opitciwan”), Gestofor_Inc., Scieries Saguenay Ltee., and Abitibi-LP Engineered Wood Inc.; the British Columbia Lumber Trade Council and its constituent associations: The Coast Forest & Lumber Association and the Council of Forest Industries; Weyerhaeuser Company; International Forest Products, Ltd. (“Interfor”); the Canadian Lumber Remanufacturers’ Alliance (“CLRA”), and each of its individual members: Alpha Lumber Mills Inc., American Bayridge Corporation, Bois Neos Inc., Brittania Lumber Company Limited, Falcon Lumber Limited, Finmac Lumber Limited, Great Lakes MSR Lumber Ltd., Hughes Lumber Specialties Inc., Les Bois d'Oeuvre Beaudoin & Gauthier Inc., Mid America Lumber, Monterra Lumber Mills Limited, Nicholson and Cates Limited, Palliser Lumber Sales Ltd., Phoenix Forest Products Inc., Weston Forest Corp.; Buchanan Lumber Sales Inc., and the Buchanan affiliated mills, exporters and importers, and other affiliates, including Atikokan Forest Products Ltd.; Buchanan Forest Products Ltd.; Buchanan Northern Hardwoods Inc.; Long Lake Forest Products Inc. (including the Nakina division (Nakina Forest Products)); Buchanan Distribution Inc.; Great West Timber Limited; Dubreuil Forest Products Limited; Northern Sawmills Inc.; McKenzie Forest Products Inc.; and Solid Wood Products Inc.; Leggett & Platt Canada Co., Leggett & Platt Ltd., Leggett & Platt (B.C.) Ltd., and Leggett & Platt, Inc. and Pleasant Valley Remanufacturing Ltd.; West Fraser Mills, Ltd.; Doman Industries Limited, Doman Forest Products Limited, and Doman Western Lumber Ltd. (now doing business as Western Forest Products Inc. and its subsidiaries); Weldwood of Canada Limited; Tolko Industries Ltd. and its affiliates, Gilbert Smith Forest Products Ltd., Compwood Products Ltd., and Pinnacle Wood Products Ltd.; Millar Western Forest Products Ltd.; Riverside Forest Products Ltd.; Lignum Ltd.; Bowater Incorporated and Its Canadian Subsidiaries, Principally Bowater Canadian Forest Products Incorporated; Quebec Lumber Manufacturers Association (“QLMA”) and certain Quebec lumber producers, including: Clermond Hamel Ltee; Carrier & Begin Inc.; Gerard Crete et Fils Inc.; P. Proulx Forest Products Inc. (also known as Proulx, Proulx Forest Products Inc., and Produits Forestiers P. Proulx Inc.); Marcel Lauzon Inc.; Groupe Lebel; Lulumco Inc.; Industries Maibec Inc. (also known as Maibec Industries Inc.); Les Produits Forestiers D.G. Ltee.; Les Produits Forestiers Portbec Ltee. (also known as Portbec Forest Products Ltd.); Les Chantiers de Chibougamau Ltee.; Industries G.D.S. Inc.; G.D.S. Valoribois Inc.; Bois Marsoui G.D.S. Inc.; Bois Granval G.D.S. Inc.; Promobois G.D.S. Inc.; Paul Valee Inc.; Bois d'oeuvre Cedrico Inc. (also known as Cedrico Lumber Inc.); Scierie Lemay Inc.; Scierie Gauthier Ltee.; Industries Perron Inc.; Fenclo Ltee.; Barrette-Chapais Ltee.; Blanchette et Blanchette Inc.; Scierie Norbois Inc.; Les Scieries du Lac St.-Jean Inc.; Bois de l'est F.B. Inc.; Domtar Inc.; Arbec Forest Products Inc.; Uniforet Inc.; Uniforet Scierie-Pate; Bois Kheops Inc.; Les Produits Forestiers F.B.M. Inc.; Les Produits Forestiers Maxibois Inc.; Careau Bois Inc.; Les Produits Forestiers Dube Inc.; Armand Duhamel & Fils Inc.; Precibois Inc.; Byrnexco Inc.; Optibois Inc.; Max Meilleur et Fils Ltee.; Materiau Blanchet Inc.; Bois Cobodex (1995) Inc.; Bois Nor Que Wood Inc.; Produits Forestiers Berscifor Inc.; Boscus Canada Inc.; Rembos Inc.; Les Produits Forestiers Miradas Inc.; Scierie Alexandre Lemay et Fils Ltee.; Les Bois S.& P. Grondin Inc.; Wilfrid Paquet & Fils Ltee.; Beaubois Coaticook Inc.; Scierie Landrienne Inc.; Domexport, Inc.; Kruger, Inc.; Scierie Gallichan Inc.; Fontaine Inc. (doing business as J.A. Fontaine et fils Incorporee), Bois Fontaine, Gestion Natanis Inc., Les Placements Jean-Paul Fontaine Ltee.; Commonwealth Plywood Company Ltd. doing business as Bois Clo-Val (formerly Bois Clo-Val Inc.), and Les Enterprises Atlas (formerly Les Enterprises Atlas (1985) Inc.); Scierie Nord-Sud Inc. (also known as North-South Sawmill Inc.); Mobilier Rustique (Beauce) Inc.; and Bardeaux et Cedres St-Honore Inc. (also known as Bardeaux et Cedres), respectively. Panel review was requested of the final results of the antidumping duty administrative review made by the United States Department of Commerce, International Trade Administration, respecting Certain Softwood Lumber Products from Canada. This determination was published in the Federal Register (70 FR 73437), on December 12, 2005. The NAFTA Secretariat has assigned Case Number USA-CDA-2006-1904-01 to this request.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686).

A first Request for Panel Review was filed with the United States Section of the NAFTA Secretariat, pursuant to Article 1904 of the Agreement, on January 11, 2006, requesting panel review of the final determination described above.

The Rules provide that:

(a) A Party or interested person may challenge the final determination in whole or in part by filing a Complaint in accordance with Rule 39 within 30 days after the filing of the first Request for Panel Review (the deadline for filing a Complaint is February 10, 2006);

(b) A Party, investigating authority or interested person that does not file a Complaint but that intends to appear in support of any reviewable portion of the final determination may participate in the panel review by filing a Notice of Appearance in accordance with Rule 40 within 45 days after the filing of the first Request for Panel Review (the deadline for filing a Notice of Appearance is February 27, 2006); and

(c) The panel review shall be limited to the allegations of error of fact or law, including the jurisdiction of the investigating authority, that are set out in the Complaints filed in the panel review and the procedural and substantive defenses raised in the panel review.

Dated: January 12, 2006.
Caratina L. Alston,
United States Secretary, NAFTA Secretariat.

[FR Doc. E6-530 Filed 1-18-06; 8:45 am]

BILLING CODE 3510-GT-P